DEPARTMENT OF COMMERCE

National Oceanic and Atmospheric Administration

50 CFR Part 224

RIN 0648-XA39

DEPARTMENT OF THE INTERIOR

Fish and Wildlife Service

50 CFR Part 17

[I.D. 102299A]

RIN 1018-AF80

Endangered and Threatened Wildlife; Extension of Comment Period on Proposed Endangered Status for a Distinct Population Segment of Anadromous Atlantic Salmon (Salmo salar) in the Gulf of Maine

AGENCIES: National Marine Fisheries Service (NMFS), National Oceanic and Atmospheric Administration (NOAA), Commerce; Fish and Wildlife Service (FWS), Interior.

ACTION: Proposed rule; extension of comment period.

SUMMARY: NMFS and FWS (the Services) provide notice to extend the public comment period on the proposed determination of endangered status for a distinct population segment (DPS) of Atlantic salmon (Salmo salar) in the Gulf of Maine.

DATES: Comments must be received at the appropriate address or fax number (see ADDRESSES) no later than 5:00 p.m., eastern daylight time, on April 14, 2000.

ADDRESSES: Written comments and materials regarding the proposed rule should be sent to the Endangered Species Program Coordinator, NMFS, 1 Blackburn Drive, Gloucester, MA 01930 (fax 978-281-9394), or to the Chief, Division of Endangered Species, FWS, 300 Westgate Center Drive, Hadley, MA 01035 (fax 413-253-8308). Comments will not be accepted if submitted via e-mail or the Internet.

FOR FURTHER INFORMATION CONTACT: Mary Colligan, NMFS, 978-281-9116, fax 978-281-9394, e-mail mary.colligan@noaa.gov, or Paul_Nickerson, FWS, 413-253-8615, fax 413-253-8308, e-mail Paul Nickerson@fws.gov.

SUPPLEMENTARY INFORMATION: The Gulf of Maine DPS includes all naturally reproducing wild populations of Atlantic salmon having historical, river-specific characteristics found in a range north of and including tributaries of the lower Kennebec River to, but not including, the mouth of the St. Croix River at the US-Canada border. The DPS includes both early and late run Atlantic salmon. Threats to the species include low marine survival, disease, the use of non-North American strains of Atlantic salmon in the U.S. aquaculture industry, aquaculture escapees, water withdrawal and sedimentation.

On November 17, 1999, the Services published a proposed rule (64 FR 62627) to list the Gulf of Maine DPS of Atlantic salmon as endangered under the Endangered Species Act of 1973, as amended (ESA). The public comment period originally was announced to close on February 15, 2000. On January 7, 2000 (65 FR 1082) the Services extended the public comment period to March 15, 2000. Because of several requests for additional time, the Services are extending the public comment period to 5:00 P.M. Eastern Daylight Time, April 14, 2000.

Electronic Access

The 1999 Status Review may be downloaded from the following site: http://news.fws.gov/salmon/asalmon.html.

Dated: March 9, 2000.
Art Jeffers,
Acting Director, Office of Protected Resources, National Marine Fisheries Service.

Dated: March 9, 2000.
Ronald E. Lambertson,
Regional Director, Region 5, U.S. Fish & Wildlife Service.

[FR Doc. 00-6414 Filed 3-14-00; 8:45 am]

BILLING CODE 3510-22-F